FEDERAL MARITIME COMMISSION

[Petition No. P2-17]

Petition of COSCO Shipping Lines Co., Ltd., Orient Overseas Container Line Limited, and OOCL (Europe) Limited for an Exemption From Agreement Filing; Notice of Filing And Request for Comments

Notice is hereby given that COSCO Shipping Lines Co., Ltd., Orient Overseas Container Line Limited, and OOCL (Europe) Limited (“Petitioners”), have petitioned the Commission pursuant to Section 16 of the Shipping Act of 1984, 46 U.S.C. 40103(a), 46 CFR 502.92, and 46 CFR 535.301, for an exemption from agreement filing requirements Petitioners request an exemption “to replicate as to Cosco and OOCL the exemption automatically applicable to wholly-owned subsidiaries pursuant to 46 CFR 535.307, including its exemption from the provisions of Section 10(c) of the Act, 46 U.S.C. 41105.”

The Petitioners state that a pending business transaction will make them “. . . part of a single, common business enterprise . . .” though they will retain the brands as separate legal entities. The Petitioners speculate that “the transaction will be completed . . . potentially as early as mid-December 2017.” Petitioners state that “the exemption would apply to all agreements and activities between Cosco and OOCL that would otherwise be subject to filing under the Act, so long as the parties are commonly owned and controlled.” The Petitioners claim that “the requested exemption will not result in a substantial reduction in competition and will not be detrimental to commerce.”

In order for the Commission to make a thorough evaluation of the exemption requested in the Petition, pursuant to 46 CFR 502.92, interested parties are requested to submit views or arguments in reply to the Petition no later than December 1, 2017. Replies shall be sent to the Secretary by email to Secretary@fmc.gov or by mail to Federal Maritime Commission, 800 North Capitol Street NW., Washington, DC 20573-0001, and replies shall be served on Petitioners' counsels, David F. Smith, Cozen O' Connor, 1200 Nineteenth Street NW., Suite 300, Washington, DC 20036, dsmith@cozen.com, Robert B. Yoshitomi, Nixon Peabody LLP, 300 South Grand Avenue, Suite 4100, Los Angeles, CA 90071-3151, ryoshitomi@nixonpeabody.com, and Eric C. Jeffrey, 799 9th Street NW., Suite 500, Washington, DC 20001-5327, ejeffrey@nixonpeabody.com.

Non-confidential filings may be submitted in hard copy to the Secretary at the above address or by email as a PDF attachment to Secretary@fmc.gov and include in the subject line: P2-17 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's Web site at http://www.fmc.gov/P2-17. Replies filed in response to the Petition will also be posted on the Commission's Web site at this location.

Rachel E. Dickon,
Assistant Secretary.

[FR Doc. 2017-25007 Filed 11-16-17; 8:45 am]

BILLING CODE 6731-AA-P